DEPARTMENT OF HOMELAND SECURITY

Federal Emergency Management Agency

[Docket ID: FEMA-2018-0012; OMB No. 1660-NEW]

Agency Information Collection Activities: Proposed Collection; Comment Request; National Catastrophic Resource Catalog

AGENCY: U.S. Fire Administration, Federal Emergency Management Agency, DHS.

ACTION: Notice and request for comments.

SUMMARY: The Federal Emergency Management Agency (FEMA), as part of its continuing effort to reduce paperwork and respondent burden, invites the general public to take this opportunity to comment on a new information collection. In accordance with the Paperwork Reduction Act of 1995, this notice seeks comments concerning the identification and cataloging of fire and emergency services personnel and equipment that might be available to support a catastrophic national disaster response.

DATES: Comments must be submitted on or before May 29, 2018.

ADDRESSES: To avoid duplicate submissions to the docket, please use only one of the following means to submit comments:

(1) Online. Submit comments at www.regulations.gov under Docket ID FEMA-2018-0012. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Thomas Murray, Fire Program Specialist, FEMA, U.S. Fire Administration, (301) 447-1588, Thomas.murray2@fema.dhs.gov. You may contact the Information Management Division for copies of the proposed collection of information at email address: FEMA-Information-Collections-Management@fema.dhs.gov.

SUPPLEMENTARY INFORMATION: Implementation of the concepts within the National Response Framework (NRF) and Response Federal Interagency Operational Plan (FIOP) is mandatory for Federal departments and agencies. See 6 U.S.C. 314. According to the NRF, the U.S. Fire Administration (USFA), as a support agency to Emergency Support Function (ESF)—4, Firefighting, is responsible for coordinating the support for the detection and suppression of fires. To meet the requirements of the FIOP, the USFA, supporting the Core Capability of Fire Management and Suppression, will provide National Incident Management System (NIMS) resources (e.g., personnel and equipment) necessary to support wildland, rural, and urban firefighting operations resulting from, or occurring coincidentally with, an all-hazards incident requiring a coordinated national response for assistance.

Flooding, tornadoes and hurricanes do not follow geo-political boundaries. The larger and more widespread the event, the greater the likelihood that the existing local mutual-aid systems will not meet the demands placed upon them. Fire and Emergency Services will need to draw on assistance from systems beyond their normal mutual-aid boundaries, executing regional, statewide and interstate mutual-aid systems. For example, the State Emergency Management Agency may coordinate the use of the Emergency Management Assistance Compact (EMAC). Many Federal agencies who have a role in disaster response under the Robert T. Stafford Disaster Relief and Emergency Assistance Act, Public Law 93-288, as amended, 42 U.S.C. 5121 et seq., depend to some extent on the support of skilled and equipped citizens. However, during a catastrophic event (such as in a New Madrid earthquake), these mutual-aid systems will be immediately overwhelmed. Responders who support Fire and Emergency Services, as well as involved Federal agencies themselves, may be impacted to such an extent that they are not available to deploy.

The goal of this information collection is to help facilitate a sustained response to a catastrophic event where response services are limited and the demand for them is overwhelmed. The information contained in the National Catastrophic Resource Catalog (NCRC) will provide a foundation to supplement existing mutual-aid systems and sustain a long-term response operation. The USFA staff, deployed to the National Response Coordination Center (NRCC) in Washington DC, will assess the situation and evaluate the availability of the NIMS-typed capabilities and credentialed personnel contained in the NCRC. The information will be used by NRCC personnel to coordinate the deployment of teams, persons and equipment to sustain the response operation.

Collection of Information

Title: National Catastrophic Resource Catalog.

Type of Information Collection: New information collection.

OMB Number: OMB Collection 1660-NEW.

FEMA Forms: FEMA Form 035-0-1, National Catastrophic Resource Catalog.

Abstract: This information collection will help USFA meet the ESF-4 firefighting resource requirements before/during a national catastrophic disaster response, such as an earthquake, hurricane, or terroristic act. USFA will pre-identify those specialized resources that may be available to support a disaster response. This collection will be solicited from the nation's fire and emergency services on a voluntary basis to establish a catalog/database of potential resources that could be mobilized to support a national catastrophic disaster response.

Affected Public: Not-for-profit institutions; State, Local or Tribal Governments.

Estimated Number of Respondents: 3,947.

Estimated Number of Responses: 3,947.

Estimated Total Annual Burden Hours: 439.

Estimated Total Annual Respondent Cost: $23,728.94.

Estimated Respondents' Operation and Maintenance Costs: $0.

Estimated Respondents' Capital and Start-Up Costs: $0.

Estimated Total Annual Cost to the Federal Government: $85,824.49.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 13, 2018.
William H. Holzerland,
Senior Director for Information Management, Office of the Chief Administrative Officer, Mission Support, Federal Emergency Management Agency, Department of Homeland Security.

[FR Doc. 2018-06277 Filed 3-28-18; 8:45 am]

BILLING CODE 9111-45-P